DEPARTMENT OF ENERGY

Federal Energy Regulatory Commission

[Docket No. IC04-546-001, FERC-546]

Commission Information Collection Activities, Proposed Collection; Comment Request; Submitted for OMB Review

October 28, 2004.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of August 26, 2004 (69 FR 52494) and has made this indication in its submission to OMB.

DATES: Comments on the collection of information are due by November 29, 2004.

ADDRESSES: Address comments on the information collection to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-4650. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-546-001.

Documents filed electronically via the Internet must be prepared in, MS Word, Portable Document Format, Word Perfect or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-546 “Certificated Rate Filings: Gas Pipeline Rates.”

2. Sponsor: Federal Energy Regulatory Commission.

3. Control No.: 1902-0155.

The Commission is now requesting that OMB approve with a three-year extension of the expiration date, with no changes to the existing collection. The information filed with the Commission is mandatory.

4. Necessity of the Collection of Information: Submission of the information is necessary to enable the Commission to carry out its responsibilities in implementing the statutory provisions of sections 4, 5 and 16 of the Natural Gas Act (NGA) (Pub. L. 75-688) (15 U.S.C. 717-717w) and Title IV of the Natural Gas Policy Act (NGPA) (15 U.S.C. 3301-3432). The Commission has the regulatory responsibility under these Acts to ensure that pipeline rates and services are just and reasonable and not unduly discriminatory. Accordingly, jurisdictional natural gas pipeline companies are required to obtain Commission approval for all rates and charges made, or demanded, in connection with the transportation or sale of natural gas in interstate commerce.

Service and tariff revision information necessary for Commission examination and subsequent approval of any certificated pipeline change in service is collected under FERC-546. (Information necessary to examine and approve any change in rates is collected separately under FERC-542 for tracking filings (non-formal), and FERC-544 and FERC-545 for general rate change filings, including NGA Section 4 major rate filings, (formal and non-formal respectively)). The required FERC-546 information is set forth in each pipeline's tariff, and must be filed in compliance with Commission regulations found in 18 CFR 154.4; 154.7; 154.202; and 154.204-154.209; and 154.602-154.603.

5. Respondent Description: The respondent universe currently comprises 77 companies (on average per year) subject to the Commission's jurisdiction.

6. Estimated Burden: 12,320 total hours, 77 respondents (average per year), 4 responses per respondent, and 40 hours per response (average).

7. Estimated Cost Burden to Respondents: 12,320 hours/2080 hours per years × $107,185 per year = $634,865.

Statutory Authority: Sections 4, 5 and 16 of the Natural Gas Act (NGA), Pub. L. 75-688) (15 U.S.C. 717-717) and Title IV of the Natural Gas Policy Act (15 U.S.C. 3301-3432).

Magalie R. Salas,
Secretary.

[FR Doc. 04-24597 Filed 11-3-04; 8:45 am]

BILLING CODE 6717-01-P